Proclamation 8349 of February 27, 2009

Read Across America Day, 2009

By the President of the United States of America

A Proclamation

Read Across America Day provides an opportunity to support efforts to excite children about reading and to educate families about the importance of literacy. I encourage families and all citizens to celebrate the joy and emphasize the importance of reading.

Every American child deserves the opportunity to solve the puzzles of mystery novels, to discover the beauty of poetry, to imagine the fantastical worlds of science fiction, and to explore their own world through books about nature and foreign lands. Reading provides unending enjoyment and helps unlock a child’s creative potential. We must make literacy the birthright of every American.

Every child also deserves the tools they will need for success. Students must read well to meet high standards in the classroom. Understanding science, mathematics, and the arts requires the ability to read proficiently. Beyond the schoolyard, our youth must be prepared to meet the demands of the global economy. New technologies and steep competition abroad require our Nation to focus on children’s reading skills as a building block for future personal achievements.

Families must play an active role in this effort. On Read Across America Day, parents are encouraged to read to their children for at least 30 minutes. I also encourage parents to recognize the critical importance of literacy for their children’s future and to develop habits at home that encourage reading, such as reading to their children every night or providing incentives for them to read on their own.

On Read Across America Day, we partner with the National Education Association and mark the birthday of Theodor Geisel, whose beloved Dr. Seuss books still inspire children throughout the world to read.

NOW, THEREFORE, I, BARACK OBAMA, President of the United States of America, by virtue of the authority vested in me by the Constitution and laws of the United States, do hereby proclaim March 2, 2009, as Read Across America Day. I call upon children, families, educators, librarians, public officials, and all the people of the United States to observe this day with appropriate programs, ceremonies, and activities.

IN WITNESS WHEREOF, I have hereunto set my hand this twenty-seventh day of February, in the year of our Lord two thousand nine, and of the Independence of the United States of America the two hundred and thirty-third.

[FR Doc. E9-4822

Filed 3-4-09; 8:45 am]

Billing code 3195-W9-P